DEPARTMENT OF THE INTERIOR

Bureau of Land Management

[PO #4820000251; Order #02412-014-004-047181.0]

Notice of Availability of the Proposed Resource Management Plan Amendments and Final Environmental Impact Statement for the Proposed Greenlink North Transmission Project in White Pine, Eureka, Lander, Churchill, and Lyon Counties, Nevada

AGENCY: Bureau of Land Management, Department of the Interior.

ACTION: Notice of availability.

SUMMARY: In compliance with the National Environmental Policy Act of 1969, as amended (NEPA), and the Federal Land Policy and Management Act of 1976, as amended (FLPMA), the Bureau of Land Management (BLM) and the United States Department of Agriculture-Forest Service (Forest Service) have prepared a proposed resource management plan (RMP) amendment and final environmental impact statement (EIS) for the Greenlink North Transmission Project.

DATES: This notice announces a 30-day protest period to the BLM on the proposed RMP amendment beginning with the date following the Environmental Protection Agency's (EPA) publication of its notice of availability (NOA) of the proposed RMP amendment/final EIS in the Federal Register. The EPA usually publishes its NOAs on Fridays. Protests must be postmarked or electronically submitted on the BLM's ePlanning site during the 30-day protest period. The Forest Service will publish a legal notice in the newspaper of record to initiate the 45-day objection period, anticipated to occur on the same day.

ADDRESSES: The proposed RMP amendment/final EIS and associated documents are available on the BLM ePlanning project website at https://eplanning.blm.gov/eplanning-ui/project/2017033/510. Documents pertinent to this proposal may also be examined at the BLM Nevada State Office, 1340 Financial Way, Reno, Nevada 89502; Forest Service, Humboldt-Toiyabe National Forest Supervisor's Office, 1200 Franklin Way, Sparks, Nevada 89431; and Forest Service, Humboldt-Toiyabe National Forest, Austin Ranger District, 100 Midas Road, Austin, Nevada 89810.

Instructions for filing a protest with the BLM for the Greenlink North Transmission Project can be found at: https://www.blm.gov/programs/planning-and-nepa/public-participation/filing-a-plan-protest and at 43 CFR 1610.5-2. Instructions for submitting an objection with the Forest Service can be found at: https://www.fs.usda.gov/project/htnf/?project=64198.

FOR FURTHER INFORMATION CONTACT: Brian Buttazoni, Project Manager, telephone (775) 861-6491; address 1340 Financial Boulevard, Reno, Nevada 89502; email blm_nv_greenlinknorth@blm.gov. Individuals in the United States who are deaf, deafblind, hard of hearing, or have a speech disability may dial 711 (TTY, TDD, or TeleBraille) to access telecommunications relay services for contacting Mr. Buttazoni. Individuals outside the United States should use the relay services offered within their country to make international calls to the point-of-contact in the United States.

SUPPLEMENTARY INFORMATION: This notice announces the start of a 30-day BLM protest period of the proposed RMP amendment and the start of a 45-day Forest Service, pre-decisional administrative review process, also known as an objection process, upon a legal notice being published in the Reno-Gazette Journal, the newspaper of record for the Humboldt-Toiyabe National Forest (36 CFR part 218, subparts A and B).

This document provides notice that the BLM Nevada State Director has prepared a proposed RMP amendment/final EIS for the Greenlink North Transmission Line Project. The RMP amendment would amend the existing 2001 Consolidated Resource Management Plan in Carson City District, 1986 Shoshone-Eureka Resource Management Plan/Record of Decision in Battle Mountain District, and 2008 Record of Decision/Resource Management Plan in Ely District. The proposed RMP amendment is being considered to allow the BLM to evaluate the establishment of a 198-mile-long utility corridor that is up to 3,500-feet wide within greater sage-grouse habitat management areas and in proximity to lek buffers on BLM-administered lands. The originally proposed utility corridor width (3 miles) and length (235 miles) was reduced after scoping to be consistent with other national utility corridor widths, and to clarify the corridor would apply to BLM-administered lands only.

The planning area is in White Pine, Eureka, Lander, Churchill, and Lyon counties, Nevada and encompasses approximately 83,400 acres of BLM-administered lands.

A NOA for the draft EIS/proposed RMP amendment was published in the Federal Register on September 10, 2024 (89 FR 73429), providing the public with a 90-day comment period. The public comment period closed on December 11, 2024. The BLM received 28 public comment emails and letters containing a total of 355 substantive comments. The public comments focused on: biological resources; alternatives development; visual resources; cultural resources; impacts to general and special-status wildlife species and their habitats; social and economic conditions; vegetation/riparian/noxious and invasive weeds/special status plant species; water resources; recreation; socioeconomic concerns; and Native American cultural/sacred sites.

Purpose and Need

The BLM's purpose and need for this Federal action is to respond to the right-of-way (ROW) application submitted by NV Energy under Title V of FLPMA (43 U.S.C. 1761) on July 20, 2020 to construct, operate, maintain, and decommission a proposed system of new 525-kV, 345-kV, 230-kV, and 120-kV electric transmission facilities on BLM-administered lands in White Pine, Eureka, Lander, Churchill, and Lyon counties, in compliance with FLPMA, BLM ROW regulations, NEPA, the BLM NEPA Handbook (BLM 2008), Department of the Interior NEPA regulations, and other applicable Federal laws and policies. In accordance with FLPMA, the BLM is authorized to grant ROWs on public lands for systems of generation, transmission, and distribution of electrical energy (43 U.S.C. 1761(a)(4)). If approved, the ROW for the proposed project would implement support the direction in Executive Orders 14154, Unleashing American Energy, and 14156, Declaring a National Energy Emergency, and Secretary's Orders 3417, Addressing the National Energy Emergency, and 3418, Unleashing American Energy.

The Greenlink North Transmission Project as proposed would not conform to the RMPs in the BLM Carson City, Battle Mountain, and Ely District Offices as required by 43 CFR 1610.5-3(a). The BLM would need to amend these RMPs to bring the Greenlink North Transmission Project into conformance. In particular, the Proponent's proposed transmission line does not conform to the management objectives of the planning area for transmission lines greater than 100-kV. The purpose of the RMP amendment is to ensure that development of the Greenlink North Transmission Project conforms to the RMPs' provisions, as provided for in 43 CFR 1610.5-3(c), by providing for the designation of a utility corridor and modifying restrictions in greater sage-grouse habitat management areas and in proximity to leks.

The Forest Service, Humboldt-Toiyabe National Forest also received an application from NV Energy for an approximately 10-mile segment of the project. The Forest Service's purpose and need is to respond to NV Energy's application for a Special Use Permit to construct, operate, maintain, and decommission the proposed 500-kV transmission line on National Forest System land in Lander County in compliance with FLPMA, the National Forest Management Act (16 U.S.C. 1601-1614), and the Toiyabe National Forest Land and Resource Management Plan (Forest Service 1986, as amended), which provides standards and guidelines for managing the National Forest.

Alternatives Including the Preferred Alternative

The BLM has analyzed three action alternatives in detail, plus the no action alternative. The State Director and Forest Supervisor have identified NV Energy's proposed action with three modified segments crossing BLM and National Forest System land as the preferred alternative. The first modified segment realigns the proposed action south of the public purpose conveyance parcels that will be transferred to Churchill County resulting from the National Defense Authorization Act of 2023. This alternative segment would be approximately 8 miles long and slightly reduce the disturbance footprint of the 525-kV transmission line on BLM-administered lands. The second modified segment would realign the proposed action further away from the recently established Desatoya Wilderness Area. The third modified segment is the Forest Service preferred northern alternative route from the Lander Substation that would cross approximately 10 miles of the Humboldt-Toiyabe National Forest and approximately 9 miles of adjacent BLM-administered lands to the east. The route would parallel an existing 230-kV transmission line within the forest's existing utility corridor until reconnecting with the proposed action route. The reconnection with the proposed action route 9 miles east of the Humboldt-Toiyabe National Forest provides the most technical feasibility to reduce the cost, line angles, and disturbances from the proposed 525-kV transmission line. The BLM further considered 18 additional transmission alternatives but dismissed these alternatives from detailed analysis as explained in the proposed RMP amendment/final EIS.

The preferred alternative was found to best meet the BLM's and Forest Service's purpose and need while addressing impacts to greater sage-grouse habitats primarily through co-location, which limits new disturbance to areas already impacted by two existing transmission lines, a 230-kV and 345-kV line. The Greenlink North Transmission Project would be co-located for approximately 198 miles of the 235-mile-long transmission line.

Mitigation

The preferred alternative for the portions of the project within and adjacent to greater sage-grouse habitats includes the requirement for NV Energy to install anti-perching/nesting deterrents on transmission poles to minimize potential predation by ravens.

Forest Service Administrative Review Process

The U.S. Forest Service's decision will be subject to the pre-decisional administrative review process at 36 CFR part 218, subparts A and B, also known as the objection process. The objection process provides an opportunity for members of the public who have participated in the planning process for the action to have any unresolved concerns reviewed by the U.S. Forest Service prior to a final decision by the Responsible Official. The legal notice announcing the opportunity to object will be published in the Reno-Gazette Journal, the newspaper of record for the Humboldt-Toiyabe National Forest. The opportunity to object ends 45-days following the publication of the legal notice in the newspaper of record. It is the objector's responsibility to ensure timely filing of a written objection. Only individuals and organizations who have submitted timely and specific written comments about this proposal during designated opportunities for public comment are eligible to file an objection in accordance with 36 CFR 218.5. Issues raised in objections must be based on previously submitted timely, specific written comments regarding the proposed project, unless the issue is based on new information arising after designated comment opportunities. The objection must contain the minimum content requirement specified in 36 CFR 218.8(d).

Protest of the Proposed RMP Amendments

The BLM planning regulations state that any person who participated in the preparation of the RMP amendment and has an interest which will or might be adversely affected by approval of the proposed RMP amendment may protest its approval to the BLM Director. Protest on the proposed RMP amendment constitutes the final opportunity for administrative review of the proposed land use planning decisions prior to the BLM adopting an approved RMP amendment. Instructions for filing a protest regarding the proposed RMP amendment with the BLM Director may be found online at https://www.blm.gov/programs/planning-and-nepa/public-participation/filing-a-plan-protest and at 43 CFR 1610.5-2. All protests must be in writing and mailed to the appropriate address, as set forth in the ADDRESSES section earlier or submitted electronically through the BLM ePlanning project website as described previously. Protests submitted electronically by any means other than the ePlanning project website will be invalid unless a protest is also submitted as a hard copy. The BLM Director will render a written decision on each protest. The Director's decision is the final decision of the Department of the Interior. Responses to valid protest issues will be compiled and documented in a protest resolution report made available following the protest resolution online at: https://www.blm.gov/programs/planning-and-nepa/public-participation/protest-resolution-reports. Upon resolution of protests, the BLM will issue a record of decision and approved RMP amendment.

Before including your phone number, email address, or other personal identifying information in your protest, you should be aware that your entire protest—including your personal identifying information—may be made publicly available at any time. While you can ask us in your protest to withhold your personal identifying information from public review, we cannot guarantee that we will be able to do so.

(Authority: 43 CFR 46.415(c), 43 CFR 1610.2, 43 CFR 1610.5)

Kimberly Prill,
State Director (Acting).

[FR Doc. 2025-09497 Filed 5-27-25; 8:45 am]

BILLING CODE 4331-21-P